FEDERAL COMMUNICATIONS COMMISSION

[CG Docket No. 04-208; DA 04-1495]

National Association of State Utility Consumer Advocates (NASUCA) Petition for Declaratory Ruling Regarding Truth-In-Billing and Billing Format; Comments Requested

AGENCY: Federal Communications Commission.

ACTION: Notice.

SUMMARY: This document seeks comment on a Petition filed on March 30, 2004, by the National Association of State Utility Consumer Advocates (NASUCA). NASUCA filed a Petition for Declaratory Ruling prohibiting telecommunications carriers from “imposing monthly line-item charges, surcharges or other fees on customers” bills unless such charges have been expressly mandated by a regulated agency.” NASUCA contends that all monthly line items are subject to the “full and non-misleading billed charges” principle adopted by the Commission in its Truth-In-Billing Order.

DATES: Comments are due on or before July 14, 2004 and reply comments are due on or before July 29, 2004.

ADDRESSES: Federal Communications Commission, 445 12th Street, SW., Washington, DC 20554.

FOR FURTHER INFORMATION CONTACT: Ruth Yodaiken, Policy Division, Consumer & Governmental Affairs Bureau, (202) 418-2512.

SUPPLEMENTARY INFORMATION: This is a summary of the Commission's Public Notice DA 04-1495, released May 25, 2004. When filing comments, please reference CG Docket No. 04-208. Pursuant to 47 CFR 1.415, 1.419, interested parties may file comments on or before July 14, 2004, and reply comments on or before July 29, 2004. Comments may be filed using the Commission's Electronic Comment Filing System (ECFS) or by filing paper copies. See Electronic Filing of Documents in Rulemaking Proceedings, 63 FR 24121, May 1, 1998. Comments filed through the ECFS can be sent as an electronic file via the Internet to http://www.fcc.gov/efile/ecfs.html. Generally, only one copy of an electronic submission must be filed. If multiple docket or rulemaking numbers appear in the caption of this proceeding, however, commenters must transmit one electronic copy of the comments to each docket or rulemaking number referenced in the caption. In completing the transmittal screen, commenters should include their full name, U.S. Postal Service mailing address, and the applicable docket or rulemaking number. Parties may also submit an electronic comment by Internet e-mail. To get filing instructions for e-mail comments, commenters should send an e-mail to ecfs@fcc.gov, and should include the following words in the body of the message, “get form.” A sample form and directions will be sent in reply. Parties who choose to file by paper must file an original and four copies of each filing. If more than one docket or rulemaking number appears in the caption of this proceeding, commenters must submit two additional copies for each additional docket or rulemaking number. Filings can be sent by hand or messenger delivery, by commercial overnight courier, or by first-class or overnight U.S. Postal Service mail (although we continue to experience delays in receiving U.S. Postal Service mail). The Commission's contractor, Natek Inc., will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class mail, Express Mail, and Priority Mail should be addressed to 445 12th Street, SW., Washington, DC 20554. All filings must be addressed to the Commission's Secretary, Office of the Secretary, Federal Communications Commission, 445 12th Street, SW., Room TW-B204, Washington, DC 20554. Parties who choose to file comments by paper should also submit their comments on diskette. These diskettes should be submitted to Kelli Farmer, Consumer & Governmental Affairs Bureau, Policy Division, 445 12th Street, SW., Rm 4-C734, Washington, DC 20554. Such a submission should be on a 3.5 inch diskette formatted in an IBM compatible format using Word 97 or compatible software. The diskette should be accompanied by a cover letter and should be submitted in “read only” mode. The diskette should be clearly labeled with the commenter's name, proceeding (including the lead docket number in this case, CG Docket No 04-208), type of pleading (comment or reply comment), date of submission, and the name of the electronic file on the diskette. The label should also include the following phrase “disk copy-not an original.” Each diskette should contain only one party's pleadings, preferably in a single electronic file. In addition, commenters must send diskette copies to the Commission's copy contractor Best Copy and Printing Inc., Portals II, 445 12th Street, SW., Room CY-B402, Washington, DC 20554.

Federal Communications Commission.
Thomas Wyatt,
Deputy Bureau Chief, Consumer & Governmental Affairs Bureau.

[FR Doc. 04-13230 Filed 6-10-04; 8:45 am]

BILLING CODE 6712-01-P